DEPARTMENT OF VETERANS AFFAIRS

[OMB Control No. 2900-0208]

Agency Information Collection Activity Under OMB Review: Architect-Engineer Fee Proposal and Contractor Production Report

AGENCY: Procurement Policy and Warrant Management Service (PPS), Office of Procurement Policy, Systems and Oversight, Office of Acquisition and Logistics, Department of Veterans Affairs.

ACTION: Notice.

SUMMARY: In compliance with the Paperwork Reduction Act (PRA) of 1995, this notice announces that the Procurement Policy and Warrant Management Service, Office of Procurement Policy, Systems and Oversight, Office of Acquisition and Logistics, Department of Veterans Affairs, will submit the collection of information abstracted below to the Office of Management and Budget (OMB) for review and comment. The PRA submission describes the nature of the information collection and its expected cost and burden, and it includes the actual data collection instrument.

DATES: Comments and recommendations for the proposed information collection should be sent by February 14, 2025.

ADDRESSES: To submit comments and recommendations for the proposed information collection, please type the following link into your browser: www.reginfo.gov/public/do/PRAMain, select “Currently under Review—Open for Public Comments”, then search the list for the information collection by Title or “OMB Control No. 2900-0208.”

FOR FURTHER INFORMATION CONTACT: VA PRA information: Maribel Aponte, 202-461-8900, vacopaperworkreduact@va.gov.

SUPPLEMENTARY INFORMATION:

Title: VA Form 6298, Architect-Engineer Fee Proposal, and VA Form 10101, Contractor Production Report.

OMB Control Number: 2900-0208 https://www.reginfo.gov/public/do/PRASearch.

Type of Review: Revision of a currently approved collection.

Abstract: VA Form 6298, Architect-Engineer Fee Proposal—the use of this form is mandatory for obtaining the proposal and supporting cost or pricing data from the contractor and its subcontractor(s) for all architect-engineer (A-E) contracts and orders for design services when the total contract value is estimated to be $50,000 or more. It is also used in obtaining proposals and supporting cost or pricing data for architect engineer services for research study, seismic study, master planning study, construction management, and other related services contracts. VA Form 10101, Contractor Production Report—is used by VA Resident Engineers to monitor contractors' work and verify the work progress reported before payment can be made. The requirement for this information is contained in VA Acquisition Regulation Clause 852.236-79.

An agency may not conduct or sponsor, and a person is not required to respond to a collection of information unless it displays a currently valid OMB control number. The Federal Register Notice with a 60-day comment period soliciting comments on this collection of information was published at 89FR87459, November 1, 2024.

Affected Public: Individuals or Households.

Estimated Annual Burden: 11,810 hours.

Estimated Average Burden per Respondent: 264 minutes.

Frequency of Response: On occasion.

Estimated Number of Respondents: 644.

Authority: 44 U.S.C. 3501 et seq.

Maribel Aponte,
VA PRA Clearance Officer, Office of Enterprise and Integration, Data Governance Analytics, Department of Veterans Affairs.

[FR Doc. 2025-00694 Filed 1-14-25; 8:45 am]

BILLING CODE 8320-01-P